DEPARTMENT OF TRANSPORTATION

Federal Aviation Administration

14 CFR Part 39

[Docket No. FAA-2018-0580; Product Identifier 2018-NM-025-AD; Amendment 39-19558; AD 2019-03-06]

RIN 2120-AA64

Airworthiness Directives; The Boeing Company Airplanes

AGENCY: Federal Aviation Administration (FAA), DOT.

ACTION: Final rule.

SUMMARY: We are adopting a new airworthiness directive (AD) for certain The Boeing Company Model 737-300, -400, and -500 series airplanes. This AD was prompted by a report indicating the passenger service units (PSUs) became separated from their attachments during several survivable accident sequences. This AD requires installing lanyard assemblies on the PSU and, for certain airplanes, on the life vest panel. We are issuing this AD to address the unsafe condition on these products.

DATES: This AD is effective March 29, 2019.

The Director of the Federal Register approved the incorporation by reference of certain publications listed in this AD as of March 29, 2019.

ADDRESSES: For service information identified in this final rule, contact Boeing Commercial Airplanes, Attention: Contractual & Data Services (C&DS), 2600 Westminster Blvd., MC 110-SK57, Seal Beach, CA 90740-5600; telephone 562-797-1717; internet https://www.myboeingfleet.com. You may view this service information at the FAA, Transport Standards Branch, 2200 South 216th St., Des Moines, WA. For information on the availability of this material at the FAA, call 206-231-3195. It is also available on the internet at http://www.regulations.gov by searching for and locating Docket No. FAA-2018-0580.

Examining the AD Docket

You may examine the AD docket on the internet at http://www.regulations.gov by searching for and locating Docket No. FAA-2018-0580; or in person at Docket Operations between 9 a.m. and 5 p.m., Monday through Friday, except Federal holidays. The AD docket contains this final rule, the regulatory evaluation, any comments received, and other information. The address for Docket Operations (phone: 800-647-5527) is U.S. Department of Transportation, Docket Operations, M-30, West Building Ground Floor, Room W12-140, 1200 New Jersey Avenue SE, Washington, DC 20590.

FOR FURTHER INFORMATION CONTACT: Scott Craig, Aerospace Engineer, Cabin Safety and Environmental Systems Section, FAA, Seattle ACO Branch, 2200 South 216 St., Des Moines, WA 98198; phone and fax: 206-231-3566; email: Michael.S.Craig@faa.gov.

SUPPLEMENTARY INFORMATION:

Discussion

We issued a notice of proposed rulemaking (NPRM) to amend 14 CFR part 39 by adding an AD that would apply to certain The Boeing Company Model 737-300, -400, and -500 series airplanes. The NPRM published in the Federal Register on July 6, 2018 (83 FR 31507). The NPRM was prompted by a report indicating that the PSUs became separated from their attachments during several survivable accident sequences. The NPRM proposed to require installing lanyard assemblies on the PSU and, for certain airplanes, on the life vest panel.

We are issuing this AD to address the PSU becoming detached and falling into the cabin, which could lead to passenger injuries and impede egress during an evacuation.

Comments

We gave the public the opportunity to participate in developing this final rule. The following presents the comments received on the NPRM and the FAA's response to each comment.

Effect of Winglets on Accomplishment of the Proposed Actions

Aviation Partners Boeing stated that the installation of winglets per Supplemental Type Certificate (STC) ST01219SE does not affect the accomplishment of the manufacturer's service instructions.

We agree with the commenter that STC ST01219SE does not affect the accomplishment of the manufacturer's service instructions. Therefore, the installation of STC ST01219SE does not affect the ability to accomplish the actions required by this AD. We have not changed this AD in this regard.

Request To Revise the Applicability

Atlas Air Inc. requested that certain airplanes be removed from the applicability. Atlas Air Inc. stated that if any affected airplanes specified in Boeing Service Bulletin 737-25-1728, dated October 10, 2016, are converted from passenger configuration to a freighter configuration after October 10, 2016, the release date of the service bulletin, then those airplanes should be excluded from the applicability of the proposed AD. Atlas Air Inc. commented that, after freighter conversion, an airplane is no longer equipped with passenger service units or passenger life vest panels.

We partially agree with the commenter's request. We agree with Atlas Air Inc. that passenger service units or passenger life vest panels might not be installed on an airplane that has gone through a freighter conversion because they may no longer be required in an airplane that has been fully converted to a freighter and has no passengers. We disagree with modifying the applicability of the AD because it is possible that the freighter conversion could still include some passenger seating with passenger service units. However, we will consider specific configurations, and operators may request approval of an alternative method of compliance (AMOC) under the provisions of paragraph (i) of this AD. We have not changed this AD regarding this issue.

Request To Revise Certain Language in the Proposed AD

Boeing requested that we revise the proposed AD to state that the NPRM “was prompted by a report indicating that the passenger service unit (PSU) became separated from their attachments during the survivable accident sequences.” Boeing stated that this wording aligns with standardized language used in previous documentation of this unsafe condition, including the National Transportation Safety Board (NTSB) safety recommendation, A-12-2.

We agree with the commenter that the new wording aligns with standard language used in previous documentation of this unsafe condition, including the NTSB safety recommendation, A-12-2. We have revised the final rule accordingly.

Conclusion

We reviewed the relevant data, considered the comments received, and determined that air safety and the public interest require adopting this final rule with the changes described previously and minor editorial changes. We have determined that these minor changes:

• Are consistent with the intent that was proposed in the NPRM for addressing the unsafe condition; and

• Do not add any additional burden upon the public than was already proposed in the NPRM.

We also determined that these changes will not increase the economic burden on any operator or increase the scope of this final rule.

Related Service Information Under 1 CFR Part 51

We reviewed Boeing Service Bulletin 737-25-1728, dated October 10, 2016. The service information describes procedures for installing lanyard assemblies on the PSU and life vest panel.

We reviewed Boeing Requirements Bulletin 737-25-1758 RB, dated November 8, 2017. The service information describes procedures for installing lanyard assemblies on the PSU.

These documents are distinct since they apply to airplanes in different configurations.

This service information is reasonably available because the interested parties have access to it through their normal course of business or by the means identified in the ADDRESSES section.

Costs of Compliance

We estimate that this AD affects 227 airplanes of U.S. registry. We estimate the following costs to comply with this AD:

Estimated Costs for Required Actions
Action | Labor cost | Parts cost | Cost per product | Cost on U.S. operators
Installation of lanyard assemblies | Up to 76 work-hour × $85 per hour = $6,460 | Up to $11,000 | Up to $17,460 | Up to $3,963,420.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-03-06 The Boeing Company: Amendment 39-19558; Docket No. FAA-2018-0580; Product Identifier 2018-NM-025-AD.

(a) Effective Date

This AD is effective March 29, 2019.

(b) Affected ADs

None.

(c) Applicability

This AD applies to The Boeing Company Model 737-300, -400, and -500 series airplanes, certificated in any category, as identified in the service information specified in paragraphs (c)(1) and (c)(2) of this AD.

(1) Boeing Service Bulletin 737-25-1728, dated October 10, 2016.

(2) Boeing Requirements Bulletin 737-25-1758 RB, dated November 8, 2017.

(d) Subject

Air Transport Association (ATA) of America Code 25, Equipment/furnishings.

(e) Unsafe Condition

This AD was prompted by a report indicating the passenger service units (PSUs) became separated from their attachments during several survivable accident sequences. We are issuing this AD to address the PSU becoming detached and falling into the cabin, which could lead to passenger injuries and impede egress during an evacuation.

(f) Compliance

Comply with this AD within the compliance times specified, unless already done.

(g) Required Actions

(1) For airplanes identified in Boeing Service Bulletin 737-25-1728, dated October 10, 2016: Except as required by paragraph (h)(1) of this AD, at the applicable times specified in paragraph 1.E., “Compliance,” of Boeing Service Bulletin 737-25-1728, dated October 10, 2016, do all applicable actions identified as “RC” (required for compliance) in, and in accordance with, the Accomplishment Instructions of Boeing Service Bulletin 737-25-1728, dated October 10, 2016.

(2) For airplanes identified in Boeing Requirements Bulletin 737-25-1758 RB, dated November 8, 2017: Except as required by paragraph (h)(2) of this AD, at the applicable times specified in the “Compliance” paragraph of Boeing Requirements Bulletin 737-25-1758 RB, dated November 8, 2017, do all applicable actions identified in, and in accordance with, the Accomplishment Instructions of Boeing Requirements Bulletin 737-25-1758 RB, dated November 8, 2017.

Note 1 to paragraph (g)(2) of this AD: Guidance for accomplishing the actions required by paragraph (g)(2) of this AD can be found in Boeing Service Bulletin 737-25-1758, dated November 8, 2017, which is referred to in Boeing Requirements Bulletin 737-25-1758 RB, dated November 8, 2017.

(h) Exceptions to Service Information Specifications

(1) For purposes of determining compliance with the requirements of this AD: Where Boeing Service Bulletin 737-25-1728, dated October 10, 2016, uses the phrase “the original issue date of this service bulletin,” this AD requires using “the effective date of this AD.”

(2) For purposes of determining compliance with the requirements of this AD: Where Boeing Requirements Bulletin 737-25-1758 RB, dated November 8, 2017, uses the phrase “the original issue date of the Requirements Bulletin (RB),” this AD requires using “the effective date of this AD.”

(i) Alternative Methods of Compliance (AMOCs)

(1) The Manager, Seattle ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Seattle ACO Branch, FAA, to make those findings. To be approved, the repair method, modification deviation, or alteration deviation must meet the certification basis of the airplane, and the approval must specifically refer to this AD.

(4) For service information that contains steps that are labeled as RC, the provisions of paragraphs (i)(4)(i) and (i)(4)(ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(j) Related Information

For more information about this AD, contact Scott Craig, Aerospace Engineer, Cabin Safety and Environmental Systems Section, FAA, Seattle ACO Branch, 2200 South 216th St., Des Moines, WA 98198; phone and fax: 206-231-3566; email: Michael.S.Craig@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Service Bulletin 737-25-1728, dated October 10, 2016.

(ii) Boeing Requirements Bulletin 737-25-1758 RB, dated November 8, 2017.

(3) For service information identified in this AD, contact Boeing Commercial Airplanes, Attention: Contractual & Data Services (C&DS), 2600 Westminster Blvd., MC 110-SK57, Seal Beach, CA 90740-5600; telephone 562-797-1717; internet https://www.myboeingfleet.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on February 1, 2019.
Michael Kaszycki,
Acting Director, System Oversight Division, Aircraft Certification Service.

[FR Doc. 2019-02932 Filed 2-21-19; 8:45 am]

BILLING CODE 4910-13-P